DEPARTMENT OF THE INTERIOR

Bureau of Land Management

[MT-924-1430-ET; MTM 40641 et. al.]

Public Land Order No. 7465; Revocation of 13 Executive Orders; Montana

AGENCY: Bureau of Land Management, Interior.

ACTION: Public land order.

SUMMARY: This order revokes 13 Executive orders in their entirety as they affect approximately 4,649,902 acres of public and National Forest System lands withdrawn for coal and phosphate classification purposes. The lands are no longer needed for the purpose for which they were withdrawn. This action will open the public lands to surface entry and nonmetalliferous mining subject to other segregations of record. The lands located within the National Forests will be opened to such forms of disposition as may by law be made of National Forest System lands and nonmetalliferous mining subject to other segregations of record. All of the lands have been and remain open to metalliferous mining and mineral leasing.

EFFECTIVE DATE: November 15, 2000.

FOR FURTHER INFORMATION CONTACT: Sandra Ward, BLM Montana State Office, P.O. Box 36800, Billings, Montana 59107, 406-896-5052. Copies of the Executive orders listed in Paragraph 1 are available from this location.

By virtue of the authority vested in the Secretary of the Interior by Section 204 of the Federal Land Policy and Management Act of 1976, 43 U.S.C. 1714 (1994), it is ordered as follows:

1. The following Executive orders, which withdrew public and National Forest System lands for coal and phosphate classification purposes, are hereby revoked in their entirety:

(a) July 9, 1910, Coal Reserve Montana No. 1 (MTM 40641);

(b) July 29, 1910, Coal Reserve Montana No. 3 (MTM 41512);

(c) November 25, 1910, Coal Reserve Montana No. 6 (MTM 41124);

(d) January 12, 1911, Phosphate Reserve No. 7 (MTM 41533);

(e) December 21, 1911, Coal Reserve Montana No. 8 (MTM 41180);

(f) April 29, 1912, Phosphate Reserve No. 10, Montana No. 2 (MTM 41814);

(g) June 10, 1912, Phosphate Reserve No. 12, Montana No. 3 (MTM 41561);

(h) July 14, 1913, Phosphate Reserve No. 20, Montana No. 4 (MTM 41564);

(i) June 6, 1914, Phosphate Reserve No. 21, Montana No. 5 (MTM 41815);

(j) October 9, 1917, Phosphate Reserve No. 30, Montana No. 7 (MTM 41179);

(k) October 20, 1917, Phosphate Reserve No. 29, Montana No. 6 (MTM 41887);

(l) December 22, 1919, Coal Reserve Montana No. 14 (MTM 41679);

(m) June 6, 1929, Coal Reserve No. 1, Montana No. 1 (MTM 40935).

The areas within the above orders aggregate approximately 4,649,902 acres in Beaverhead, Big Horn, Blaine, Carbon, Carter, Cascade, Chouteau, Custer, Dawson, Deer Lodge, Fergus, Flathead, Gallatin, Garfield, Granite, Jefferson, Lewis and Clark, Madison, Missoula, Park, Pondera, Powder River, Powell, Prairie, Ravalli, Richland, Rosebud, Silver Bow, Stillwater, Sweet Grass, Teton, and Treasure Counties, Montana.

2. At 9 a.m. on November 15, 2000, subject to valid existing rights, the provisions of existing withdrawals, other segregations of record, and the requirements of applicable law, the public lands withdrawn by the Executive orders listed in Paragraph 1 shall be opened to the operation of the public land laws generally and the National Forest System lands withdrawn by the Executive orders listed in Paragraph 1 shall be opened to such forms of disposition as may by law be made of National Forest System lands. All valid applications received at or prior to 9 a.m. on November 15, 2000, shall be considered as simultaneously filed at that time. Those received thereafter shall be considered in the order of filing.

3. At 9 a.m. on November 15, 2000, the lands withdrawn by the Executive orders listed in Paragraph 1 shall be opened to location and entry under the United States mining laws for nonmetalliferous minerals, subject to valid existing rights, the provisions of existing withdrawals, other segregations of record, and the requirements of applicable law. Appropriation of the lands that were withdrawn pursuant to the Executive orders listed in Paragraph 1 under the general mining laws for nonmetalliferous mining prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: September 15, 2000.
Sylvia V. Baca,
Assistant Secretary of the Interior.

[FR Doc. 00-26427 Filed 10-13-00; 8:45 am]

BILLING CODE 4310-DN-P